GENERAL SERVICES ADMINISTRATION

OMB Control No. 3090-0058

Information Collection; Deposit Bond Individual, Annual Sale of Government Personal Property, Standard Form (SF) 151

AGENCY: Federal Supply Service, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding deposit bond individual, annual sale of Government personal property; Standard Form (SF) 151.

Public comments are particularly invited on: Whether this collection of information is necessary and whether it will have practical utility; whether our estimate of the public burden of this collection of information is accurate, and based on valid assumptions and methodology; ways to enhance the quality, utility, and clarity of the information to be collected.

DATES: Submit comments on or before: January 3, 2005.

FOR FURTHER INFORMATION CONTACT: Ms. Iris Wright-Simpson, Property Disposition Specialist, Personal Property Center, by telephone at (703) 305-7011 or via email to iris.wright-simpson@gsa.gov.

ADDRESSES: Submit comments regarding this burden estimate or any other aspect of this collection of information, including suggestions for reducing this burden to the Regulatory Secretariat (V), General Services Administration, Room 4035, 1800 F Street, NW., Washington, DC 20405. Please cite OMB Control No. 3090-0058; Deposit Bond Individual, Annual Sale of Government Personal Property; Standard Form (SF) 151.

SUPPLEMENTARY INFORMATION:

A. Purpose

SF 151 is used by bidders participating in sales of Government personal property whenever the sales invitation permits an annual type of deposit bond in lieu of cash or other form of deposit.

B. Annual Reporting Burden

Respondents: 1000

Responses Per Respondent: 1

Total Responses: 1000

Hours Per Response: .25

Total Burden Hours: 250

OBTAINING COPIES OF PROPOSALS: Requesters may obtain a copy of the information collection documents from the General Services Administration, Regulatory Secretariat (V), 1800 F Street, NW., Room 4035, Washington, DC 20405, telephone (202) 208-7312. Please cite OMB Control No. 3090-0058, Deposit Bond Individual, Annual Sale of Government Personal Property; Standard Form (SF) 151, in all correspondence.

Dated: October 26, 2004
Michael W. Carleton,
Chief Information Officer.

[FR Doc. 04-24341 Filed 10-29-04; 8:45 am]

BILLING CODE 6820-89-S